SMALL BUSINESS ADMINISTRATION

[Psilos Group Partners II SBIC, L.P., License No. 02/72-0617]

Notice Seeking Exemption Under Section 312 of the Small Business Investment Act, Conflicts of Interest

Notice is hereby given that Psilos Group Partners II SBIC, L.P., 625 Avenue of the Americas, Fourth Floor, New York, NY 10011, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730 (2000). Psilos Group Partners II SBIC, L.P. proposes to provide equity/debt security financing to Definity Health Corporation. The financing is contemplated for national sales force expansion and working capital.

The financing is brought within the purview of Sec. 107.730(a)(1) of the Regulations because Psilos Group Partners II, L.P. and Psilos Group Partners IIA, L.P., Associates of Psilos Group Partners II SBIC, L.P., collectively own more than ten percent of Definity Health Corporation.

Notice is hereby given that any interested person may submit written comments on the transaction to the Associate Administrator for Investment, U.S. Small Business Administration, 409 Third Street, SW, Washington, DC 20416.

Dated: August 14, 2003.
Harry E. Haskins,
Deputy Associate Administrator for Investment.

[FR Doc. 03-21799 Filed 8-26-03; 8:45 am]

BILLING CODE 8025-01-P